DEPARTMENT OF COMMERCE

International Trade Administration

National Superconducting Cyclotron Laboratory of Michigan State University; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Docket Number: 10-043. Applicant: National Superconducting Cyclotron Laboratory of Michigan State University. Instrument: Radio Frequency Quadropole Accelerator (RFQ). Manufacturer: Institut fur Angewandte Physik, Germany. Intended Use: See notice at 75 FR 40775, July 14, 2010. Comments: None received. Reasons: Unique characteristics of this instrument pertinent for the intended purposes include the reachable power and electrode voltage level, simple tuning of rod-voltage flatness, and simple resonance frequency tuning in order to guarantee the required ion beam properties. No other RFQ structure can deliver these features in the according frequency range of 80.5 MHz. Decision: Approved. We know of no instruments of equivalent scientific value to the foreign instrument, for such purposes as this is intended to be used and with the unique characteristics described above, that was being manufactured in the United States at the time of its order.

Dated: August 6, 2010.
Gregory W. Campbell,
Acting Director, Subsidies Enforcement Office, Import Administration.

[FR Doc. 2010-19942 Filed 8-11-10; 8:45 am]

BILLING CODE 3510-DS-P